DEPARTMENT OF COMMERCE

National Oceanic and Atmospheric Administration

Evaluation of Narragansett Bay National Estuarine Research Reserve; Public Meeting; Request for Comments

AGENCY: Office for Coastal Management, National Ocean Service, National Oceanic and Atmospheric Administration, Department of Commerce.

ACTION: Notice of public meeting; request for comments.

SUMMARY: The National Oceanic and Atmospheric Administration (NOAA), Office for Coastal Management, will hold a virtual public meeting to solicit input on the performance evaluation of the Narragansett Bay National Estuarine Research Reserve. NOAA also invites the public to submit written comments.

DATES: NOAA will hold a virtual public meeting on Wednesday, October 11, 2023, at 12:30 p.m. Eastern Time (ET). NOAA will close the meeting 15 minutes after the conclusion of public comments and after responding to any clarifying questions from meeting participants. NOAA will consider all relevant written comments received by Friday, October 20, 2023.

ADDRESSES: Comments may be submitted by one of the following methods:

• Virtual Public Meeting: Register at https://forms.gle/xKDXoiqVTqxK2huZA to participate in the virtual public meeting on Wednesday, October 11, 2023, at 12:30 p.m. ET. We request that participants register by Wednesday, October 11, 2023, at 10:30 a.m. ET. Please indicate on the registration form whether you intend to provide oral comments during the virtual public meeting by clicking “Yes” or “No” in the box that reads, “Do you plan to make oral comments during this meeting?” The order of the public oral comments will be based on the date and time of registration. Upon registration, NOAA will send a confirmation email. One hour prior to the start of the virtual public meeting on October 11, 2023, NOAA will send an email to all registrants with a link to the public meeting and information about participating. While advance registration is requested, registration will remain open until the meeting closes and any participant may provide oral comment after the registered speakers conclude. Meeting registrants may remain anonymous by typing “Anonymous” in the “First Name” and “Last Name” fields on the registration form.

• Email: Send written comments to Pam Kylstra, Evaluator, NOAA Office for Coastal Management, at Pam.Kylstra@noaa.gov. Include “Comments on Performance Evaluation of the Narragansett Bay National Estuarine Research Reserve” in the subject line of the message. NOAA will accept anonymous written comments; however, the written comments NOAA receives are considered part of the public record, and the entirety of the comment, including the name of the commenter, email address, attachments, and other supporting materials, will be publicly accessible. Sensitive personally identifiable information, such as account numbers and Social Security numbers, should not be included with the comment. Comments that are not related to the performance evaluation of the Narragansett Bay National Estuarine Research Reserve or that contain profanity, vulgarity, threats, or other inappropriate language will not be considered.

FOR FURTHER INFORMATION CONTACT: Pam Kylstra, Evaluator, NOAA Office for Coastal Management, by email at Pam.Kylstra@noaa.gov or by phone at (843) 439-5568. Copies of the previous evaluation findings, reserve management plan, and reserve site profile may be viewed and downloaded on the internet at http://coast.noaa.gov/czm/evaluations/. A copy of the evaluation notification letter and most recent progress report may be obtained upon request by contacting Pam Kylstra.

SUPPLEMENTARY INFORMATION: Section 312 of the Coastal Zone Management Act (CZMA) requires NOAA to conduct periodic evaluations of federally approved national estuarine research reserves. The process includes one or more public meetings, consideration of written public comments, and consultations with interested Federal, State, and local agencies and members of the public. During the evaluation, NOAA will consider the extent to which the State of Rhode Island has met the national objectives, adhered to the reserve's management plan approved by the Secretary of Commerce, and adhered to the terms of financial assistance under the CZMA. When the evaluation is completed, NOAA's Office for Coastal Management will place a notice in the Federal Register announcing the availability of the final evaluation findings.

Keelin Kuipers,
Deputy Director, Office for Coastal Management, National Ocean Service, National Oceanic and Atmospheric Administration.

[FR Doc. 2023-18738 Filed 8-29-23; 8:45 am]

BILLING CODE 3510-JE-P